NUCLEAR REGULATORY COMMISSION

10 CFR Part 73

[NRC-2014-0118]

RIN 3150-AJ41

Enhanced Security of Special Nuclear Material

AGENCY: Nuclear Regulatory Commission.

ACTION: Revised regulatory basis; extension of comment period.

SUMMARY: On March 1, 2019, the U.S. Nuclear Regulatory Commission (NRC) requested comments on a draft revised regulatory basis to support a rulemaking that would update special nuclear material physical protection requirements, including those applicable to fuel cycle facilities. The public comment period originally was scheduled to close on April 1, 2019. The NRC has decided to extend the public comment period to allow members of the public more time to develop and submit their comments.

DATES: The due date of comments requested in the document published on March 1, 2019 (84 FR 6980) is extended. Comments should be filed no later than April 19, 2019. Comments received after this date will be considered, if it is practical to do so, but the NRC is able to ensure consideration only for comments received on or before this date.

ADDRESSES: You may submit comments by any of the following methods:

• Federal Rulemaking Website: Go to http://www.regulations.gov and search for Docket ID NRC-2014-0118. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Timothy Harris, Office of Nuclear Security and Incident Response, telephone: 301-287-3594, email: Timothy.Harris@nrc.gov; or Edward Lohr, Office of Nuclear Material Safety and Safeguards, telephone: 301-415-0253, email: Edward.Lohr@nrc.gov. Both are staff of the U.S. Nuclear Regulatory Commission, Washington, DC 20555-0001.

SUPPLEMENTARY INFORMATION:

I. Obtaining Information and Submitting Comments

A. Obtaining Information

Please refer to Docket ID NRC-2014-0118 when contacting the NRC about the availability of information for this action. You may obtain publicly-available information related to this action by any of the following methods:

• Federal Rulemaking Website: Go to http://www.regulations.gov and search for Docket ID NRC-2014-0118.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2014-0118 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 1, 2019, the NRC published a document in the Federal Register (84 FR 6980) requesting comments on a draft revised regulatory basis to support a rulemaking that would update special nuclear material physical protection requirements, including those applicable to fuel cycle facilities. The public comment period was originally scheduled to close on April 1, 2019. By letter dated March 11, 2019 (ADAMS Accession No. ML19071A014), the Nuclear Energy Institute requested that the NRC extend the deadline to comment by 18 days, to allow time to develop and submit comments after a scheduled public meeting on April 3, 2019, related to generic fuel cycle regulatory initiatives, including this rulemaking. The NRC is granting this request and will extend the public comment period until April 19, 2019, to allow members of the public more time to submit their comments.

Dated at Rockville, Maryland, this 15th day of March, 2019.
For the Nuclear Regulatory Commission.
Theresa V. Clark,
Deputy Director, Division of Rulemaking, Office of Nuclear Material Safety and Safeguards.

[FR Doc. 2019-05261 Filed 3-19-19; 8:45 am]

BILLING CODE 7590-01-P